DEPARTMENT OF ENERGY

Federal Energy Regulatory Commission

Combined Notice of Filings

Take notice that the Commission has received the following Natural Gas Pipeline Rate and Refund Report filings:

Filings Instituting Proceedings

Docket Numbers: PR25-1-000.

Applicants: Valley Crossing Pipeline, LLC.

Description: § 284.123(g) Rate Filing: Petition for Rate Approval and Statement of Operating Conditions to be effective 12/1/2024.

Filed Date: 10/1/24.

Accession Number: 20241001-5205.

Comment Date: 5 p.m. ET 10/22/24.

§ 284.123(g) Protest: 5 p.m. ET 12/2/24.

Docket Numbers: RP24-1104-000.

Applicants: Eastern Gas Transmission and Storage, Inc.

Description: § 4(d) Rate Filing: EGTS—2024 Annual EPCA to be effective 11/1/2024.

Filed Date: 9/30/24.

Accession Number: 20240930-5086.

Comment Date: 5 p.m. ET 10/15/24.

Docket Numbers: RP24-1105-000.

Applicants: Algonquin Gas Transmission, LLC.

Description: § 4(d) Rate Filing: Negotiated Rates—Eversource to Emera Energy eff 9-28-24 to be effective 9/28/2024.

Filed Date: 9/30/24.

Accession Number: 20240930-5090.

Comment Date: 5 p.m. ET 10/15/24.

Docket Numbers: RP24-1106-000.

Applicants: Adelphia Gateway, LLC.

Description: § 4(d) Rate Filing: Adelphia Gateway General Section 4 Rate Case Filing to be effective 4/1/2025.

Filed Date: 9/30/24.

Accession Number: 20240930-5096.

Comment Date: 5 p.m. ET 10/15/24.

Docket Numbers: RP24-1107-000.

Applicants: Panhandle Eastern Pipe Line Company, LP.

Description: § 4(d) Rate Filing: Fuel Filing on 9-30-24 to be effective 11/1/2024.

Filed Date: 9/30/24.

Accession Number: 20240930-5105.

Comment Date: 5 p.m. ET 10/15/24.

Docket Numbers: RP24-1108-000.

Applicants: Rover Pipeline LLC.

Description: § 4(d) Rate Filing: Fuel Filing on 9-30-24 to be effective 11/1/2024.

Filed Date: 9/30/24.

Accession Number: 20240930-5106.

Comment Date: 5 p.m. ET 10/15/24.

Docket Numbers: RP24-1109-000.

Applicants: Trunkline Gas Company, LLC.

Description: § 4(d) Rate Filing: Fuel Filing on 9-30-24 to be effective 11/1/2024.

Filed Date: 9/30/24.

Accession Number: 20240930-5108.

Comment Date: 5 p.m. ET 10/15/24.

Docket Numbers: RP24-1110-000.

Applicants: El Paso Natural Gas Company, L.L.C.

Description: § 4(d) Rate Filing: Negotiated Rate Agreements Update (Hartree 614700 610670 Oct 2024) to be effective 10/1/2024.

Filed Date: 9/30/24.

Accession Number: 20240930-5109.

Comment Date: 5 p.m. ET 10/15/24.

Docket Numbers: RP24-1111-000.

Applicants: Eastern Gas Transmission and Storage, Inc.

Description: § 4(d) Rate Filing: EGTS—2024 Annual TCRA to be effective 11/1/2024.

Filed Date: 9/30/24.

Accession Number: 20240930-5123.

Comment Date: 5 p.m. ET 10/15/24.

Docket Numbers: RP24-1112-000.

Applicants: El Paso Natural Gas Company, L.L.C.

Description: § 4(d) Rate Filing: Negotiated Rate Agreement Update (Conoco Oct 2024) to be effective 10/1/2024.

Filed Date: 9/30/24.

Accession Number: 20240930-5124.

Comment Date: 5 p.m. ET 10/15/24.

Docket Numbers: RP24-1113-000.

Applicants: Gulf Run Transmission, LLC.

Description: § 4(d) Rate Filing: Interim Transporter's Use Filing—Effective 11-1-2024 to be effective 11/1/2024.

Filed Date: 9/30/24.

Accession Number: 20240930-5150.

Comment Date: 5 p.m. ET 10/15/24.

Docket Numbers: RP24-1114-000.

Applicants: Stagecoach Pipeline & Storage Company LLC.

Description: § 4(d) Rate Filing: Proposed Tariff Language for OFO Update to be effective 11/1/2024.

Filed Date: 9/30/24.

Accession Number: 20240930-5159.

Comment Date: 5 p.m. ET 10/15/24.

Docket Numbers: RP24-1115-000.

Applicants: Tennessee Gas Pipeline Company, L.L.C.

Description: § 4(d) Rate Filing: Pipeline Safety and Greenhouse Gas Cost Adjustment Mechanism—2024 to be effective 11/1/2024.

Filed Date: 9/30/24.

Accession Number: 20240930-5184.

Comment Date: 5 p.m. ET 10/15/24.

Docket Numbers: RP24-1116-000.

Applicants: Natural Gas Pipeline Company of America LLC.

Description: Semi-Annual Penalty Revenue Crediting Report of Natural Gas Pipeline Company of America LLC.

Filed Date: 9/30/24.

Accession Number: 20240930-5186.

Comment Date: 5 p.m. ET 10/15/24.

Docket Numbers: RP24-1117-000.

Applicants: Northern Natural Gas Company.

Description: § 4(d) Rate Filing: 20240930 Housekeeping Filing to be effective 11/1/2024.

Filed Date: 9/30/24.

Accession Number: 20240930-5198.

Comment Date: 5 p.m. ET 10/15/24.

Docket Numbers: RP24-1118-000.

Applicants: Maritimes & Northeast Pipeline, L.L.C.

Description: § 4(d) Rate Filing: MNUS FRQ 2024 Filing to be effective 11/1/2024.

Filed Date: 9/30/24.

Accession Number: 20240930-5215.

Comment Date: 5 p.m. ET 10/15/24.

Docket Numbers: RP24-1119-000.

Applicants: Tennessee Gas Pipeline Company, L.L.C.

Description: § 4(d) Rate Filing: Equinor/EQT—SP397146/SP77253 to be effective 10/1/2024.

Filed Date: 9/30/24.

Accession Number: 20240930-5241.

Comment Date: 5 p.m. ET 10/15/24.

Docket Numbers: RP24-1120-000.

Applicants: Northern Natural Gas Company.

Description: § 4(d) Rate Filing: 202409301 Negotiated Rate Filing to be effective 9/30/2024.

Filed Date: 9/30/24.

Accession Number: 20240930-5259.

Comment Date: 5 p.m. ET 10/15/24.

Docket Numbers: RP24-1121-000.

Applicants: Northern Natural Gas Company.

Description: § 4(d) Rate Filing: 20240930 Negotiated Rate Filing to be effective 10/1/2024.

Filed Date: 9/30/24.

Accession Number: 20240930-5318.

Comment Date: 5 p.m. ET 10/15/24.

Docket Numbers: RP24-1122-000.

Applicants: Algonquin Gas Transmission, LLC.

Description: OFO Penalty Disbursement Report of Algonquin Gas Transmission, LLC.

Filed Date: 9/30/24.

Accession Number: 20240930-5357.

Comment Date: 5 p.m. ET 10/15/24.

Docket Numbers: RP25-1-000.

Applicants: Mountain Valley Pipeline, LLC.

Description: § 4(d) Rate Filing: Price Indices Updates—11/1/2024 to be effective 11/1/2024.

Filed Date: 10/1/24.

Accession Number: 20241001-5006.

Comment Date: 5 p.m. ET 10/15/24.

Docket Numbers: RP25-2-000.

Applicants: Equitrans, L.P.

Description: § 4(d) Rate Filing: Price Indices and OFO Penalty Updates—11/1/2024 to be effective 11/1/2024.

Filed Date: 10/1/24.

Accession Number: 20241001-5007.

Comment Date: 5 p.m. ET 10/15/24.

Docket Numbers: RP25-3-000.

Applicants: Rager Mountain Storage Company LLC.

Description: § 4(d) Rate Filing: Price Index and OFO Penalty Update—11/1/2024 to be effective 11/1/2024.

Filed Date: 10/1/24.

Accession Number: 20241001-5008.

Comment Date: 5 p.m. ET 10/15/24.

Docket Numbers: RP25-4-000.

Applicants: Mountain Valley Pipeline, LLC.

Description: § 4(d) Rate Filing: Negotiated Rate Capacity Release Agreements—10/1/2024 to be effective 10/1/2024.

Filed Date: 10/1/24.

Accession Number: 20241001-5009.

Comment Date: 5 p.m. ET 10/15/24.

Docket Numbers: RP25-5-000.

Applicants: Iroquois Gas Transmission System, L.P.

Description: § 4(d) Rate Filing: 10.1.24 Negotiated Rates—Citadel Energy Marketing LLC R-7705-25 to be effective 11/1/2024.

Filed Date: 10/1/24.

Accession Number: 20241001-5058.

Comment Date: 5 p.m. ET 10/15/24.

Docket Numbers: RP25-6-000.

Applicants: Iroquois Gas Transmission System, L.P.

Description: § 4(d) Rate Filing: 10.1.24 Negotiated Rates—Citadel Energy Marketing LLC R-7705-26 to be effective 11/1/2024.

Filed Date: 10/1/24.

Accession Number: 20241001-5071.

Comment Date: 5 p.m. ET 10/15/24.

Docket Numbers: RP25-7-000.

Applicants: Algonquin Gas Transmission, LLC.

Description: § 4(d) Rate Filing: Negotiated Rates—Various Releases eff 10-1-24 to be effective 10/1/2024.

Filed Date: 10/1/24.

Accession Number: 20241001-5072.

Comment Date: 5 p.m. ET 10/15/24.

Docket Numbers: RP25-8-000.

Applicants: Iroquois Gas Transmission System, L.P.

Description: § 4(d) Rate Filing: 10.1.24 Negotiated Rates—Citadel Energy Marketing LLC R-7705-27 to be effective 11/1/2024.

Filed Date: 10/1/24.

Accession Number: 20241001-5079.

Comment Date: 5 p.m. ET 10/15/24.

Docket Numbers: RP25-9-000.

Applicants: Iroquois Gas Transmission System, L.P.

Description: § 4(d) Rate Filing: 10.1.24 Negotiated Rates—Citadel Energy Marketing LLC R-7705-28 to be effective 11/1/2024.

Filed Date: 10/1/24.

Accession Number: 20241001-5083.

Comment Date: 5 p.m. ET 10/15/24.

Docket Numbers: RP25-10-000.

Applicants: NEXUS Gas Transmission, LLC.

Description: § 4(d) Rate Filing: Negotiated Rates—Various Releases eff 10-1-2024 to be effective 10/1/2024.

Filed Date: 10/1/24.

Accession Number: 20241001-5086.

Comment Date: 5 p.m. ET 10/15/24.

Docket Numbers: RP25-11-000.

Applicants: Maritimes & Northeast Pipeline, L.L.C.

Description: § 4(d) Rate Filing: Negotiated Rates—Northern to Emera Energy 3145 eff 10-1-24 to be effective 10/1/2024.

Filed Date: 10/1/24.

Accession Number: 20241001-5087.

Comment Date: 5 p.m. ET 10/15/24.

Docket Numbers: RP25-12-000.

Applicants: Northern Natural Gas Company.

Description: § 4(d) Rate Filing: 20241001 Non-Conforming Contract Iogen RC to be effective 11/1/2024.

Filed Date: 10/1/24.

Accession Number: 20241001-5107.

Comment Date: 5 p.m. ET 10/15/24.

Docket Numbers: RP25-13-000.

Applicants: Rover Pipeline LLC.

Description: § 4(d) Rate Filing: Summary of Negotiated Rate Capacity Release Agreements 10-1-2024 to be effective 10/1/2024.

Filed Date: 10/1/24.

Accession Number: 20241001-5126.

Comment Date: 5 p.m. ET 10/15/24.

Docket Numbers: RP25-14-000.

Applicants: Texas Gas Transmission, LLC.

Description: § 4(d) Rate Filing: 2024 Fuel Tracker Filing to be effective 11/1/2024.

Filed Date: 10/1/24.

Accession Number: 20241001-5142.

Comment Date: 5 p.m. ET 10/15/24.

Docket Numbers: RP25-15-000.

Applicants: Spire STL Pipeline LLC.

Description: § 4(d) Rate Filing: Spire STL Pipeline Annual LAUF Filing to be effective 11/1/2024.

Filed Date: 10/1/24.

Accession Number: 20241001-5167.

Comment Date: 5 p.m. ET 10/15/24.

Docket Numbers: RP25-16-000.

Applicants: Saltville Gas Storage Company L.L.C.

Description: § 4(d) Rate Filing: SGSC 2024 Fuel Filing to be effective 11/1/2024.

Filed Date: 10/1/24.

Accession Number: 20241001-5172.

Comment Date: 5 p.m. ET 10/15/24.

Docket Numbers: RP25-17-000.

Applicants: Equitrans, L.P.

Description: § 4(d) Rate Filing: Negotiated Rate Capacity Release Agreement—10/01/2024 to be effective 10/1/2024.

Filed Date: 10/1/24.

Accession Number: 20241001-5201.

Comment Date: 5 p.m. ET 10/15/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-1106-001.

Applicants: Adelphia Gateway, LLC.

Description: Tariff Amendment: Adelphia Gateways Amended Rate Case Filing to be effective 11/1/2024.

Filed Date: 9/30/24.

Accession Number: 20240930-5211.

Comment Date: 5 p.m. ET 10/15/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 1, 2024.
Debbie-Anne A. Reese,
Acting Secretary.

[FR Doc. 2024-23186 Filed 10-7-24; 8:45 am]

BILLING CODE 6717-01-P